DEPARTMENT OF THE INTERIOR

National Park Service

[N6560; NPS-WASO-NAGPRA-NPS0041184; PPWOCRADN0-PCU00RP14.R50000]

Notice of Intended Repatriation: Tennessee Department of Environment and Conservation, Division of Archaeology, Nashville, TN

AGENCY: National Park Service, Interior.

ACTION: Notice.

SUMMARY: In accordance with the Native American Graves Protection and Repatriation Act (NAGPRA), the Tennessee Department of Environment and Conservation, Division of Archaeology (TDEC-DOA) intends to repatriate certain cultural items from Davidson County, Tennessee that meet the definition of unassociated funerary objects and that have a cultural affiliation with the Indian Tribes or Native Hawaiian organizations in this notice.

DATES: Repatriation of the cultural items in this notice may occur on or after December 17, 2025.

ADDRESSES: Send additional, written requests for repatriation of the cultural items in this notice to Phillip R. Hodge, Tennessee Department of Environment and Conservation, Division of Archaeology (TDEC-DOA), 1216 Foster Avenue, Cole Building #3, Nashville, TN 37243, email Phil.Hodge@tn.gov.

SUPPLEMENTARY INFORMATION: This notice is published as part of the National Park Service's administrative responsibilities under NAGPRA. The determinations in this notice are the sole responsibility of the TDEC-DOA, and additional information on the determinations in this notice, including the results of consultation, can be found in the summary or related records. The National Park Service is not responsible for the determinations in this notice.

Abstract of Information Available

A total of 13 unassociated funerary objects have been requested for repatriation.

Site 40DV4, Davidson County, TN

Unassociated funerary objects consisting of two salt pan ceramic sherds. These artifacts were excavated by a private consultant in 1991 during a TDOT-permitted archaeological project and curated with TDEC-DOA. There is no known exposure to hazardous substances or treatments.

Site 40DV35, Davidson County, TN

Unassociated funerary objects consisting of one banded limestone gorget. No information is available regarding the 1990 acquisition of this material into TDEC-DOA collections. There is no known exposure to hazardous substances or treatments.

Site 40DV195, Davidson County, TN

Unassociated funerary objects consisting of one calcite ear plug. This artifact was recovered from a Mississippian period stone box cemetery excavated by private consultant in1992 under a Chancery court order, and donated to TDEC-DOA in 1993. All ancestral remains were reinterred by the consultant under state law. There is no known exposure to hazardous substances or treatments.

Site 40DV447, Davidson County, TN

A total of six unassociated funerary objects consisting of four lithic artifacts; one lot of lithic artifacts; and one lot of copper beads. This material was recovered during excavations associated with TDOT construction of Briley Parkway and donated to TDEC-DOA in 1995. The associated skeletal remains were reburied in 1995 under state cemetery law. There is no known exposure to hazardous substances or treatments.

Unknown Site, Davidson County, TN

A total of three unassociated funerary objects consisting of one ceramic frog effigy vessel; one ceramic bowl; and one lot of shell beads. These materials were donated to TDEC-DOA from the collection of the Cumberland Science Museum.

Determinations

The TDEC-DOA has determined that:

• The 13 unassociated funerary objects are reasonably believed to have been placed intentionally with or near human remains, and are connected, either at the time of death or later as part of the death rite or ceremony of a Native American culture according to the Native American traditional knowledge of a lineal descendant, Indian Tribe, or Native Hawaiian organization. The unassociated funerary object has been identified by a preponderance of the evidence as related to human remains, specific individuals, or families, or removed from a specific burial site or burial area of an individual or individuals with cultural affiliation to an Indian Tribe or Native Hawaiian organization.

• There is a reasonable connection between the cultural items described in this notice and the Absentee-Shawnee Tribe of Indians of Oklahoma; Alabama-Coushatta Tribe of Texas; Cherokee Nation; Eastern Band of Cherokee Indians; Eastern Shawnee Tribe of Oklahoma; Shawnee Tribe; The Muscogee (Creek) Nation; and the United Keetoowah Band of Cherokee Indians in Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 17, 2025. If competing requests for repatriation are received, the TDEC-DOA must determine the most appropriate requestor prior to repatriation. Requests for joint repatriation of the cultural items are considered a single request and not competing requests. The TDEC-DOA is responsible for sending a copy of this notice to the Indian Tribes and Native Hawaiian organizations identified in this notice and to any other consulting parties.

Authority: Native American Graves Protection and Repatriation Act, 25 U.S.C. 3004 and the implementing regulations, 43 CFR 10.9.

Dated: September 18, 2025.
Melanie O'Brien,
Manager, National NAGPRA Program.

[FR Doc. 2025-19956 Filed 11-14-25; 8:45 am]

BILLING CODE 4312-52-P